DEPARTMENT OF COMMERCE

International Trade Administration

[A-570-158, A-301-806, A-331-804, A-533-920, A-560-840, A-475-846, A-580-918, A-557-826, A-201-860, A-583-874, A-549-847, A-489-850, A-520-810, A-552-837]

Aluminum Extrusions From the People's Republic of China, Colombia, Ecuador, India, Indonesia, Italy, the Republic of Korea, Malaysia, Mexico, Taiwan, Thailand, the Republic of Turkey, the United Arab Emirates, and the Socialist Republic of Vietnam: Postponement of Preliminary Determinations in the Less-Than-Fair-Value Investigations

AGENCY: Enforcement and Compliance, International Trade Administration, Department of Commerce.

DATES: Applicable February 15, 2024.

FOR FURTHER INFORMATION CONTACT: Luke Caruso (the People's Republic of China (China)) at (202) 482-2081; Jose Rivera (Colombia) at (202) 482-0842; Stephanie Trejo (Ecuador) at (202) 482-4390; Alex Cipolla (India) at (202) 482-4956; Samuel Brummitt (Indonesia) at (202) 482-7851; Christopher Maciuba (the Republic of Korea (Korea)) at (202) 482-0413; Eric Hawkins (Italy) at (202) 482-1988; Benjamin Blythe (Malaysia) at (202) 482-3457; Tyler Weinhold (Mexico) at (202) 482-1121; Hermes Pinilla (Taiwan) at (202) 482-3477; Jun Jack Zhao (Thailand) at (202) 482-1396; Sean Grossnickle (the Republic of Turkey (Turkey)) at (202) 482-3818; John K. Drury (the United Arab Emirates (UAE)) at (202) 482-0195; and Katherine Smith (the Socialist Republic of Vietnam (Vietnam)) at (202) 482-0557, AD/CVD Operations, Enforcement and Compliance, International Trade Administration, U.S. Department of Commerce, 1401 Constitution Avenue NW, Washington, DC 20230.

SUPPLEMENTARY INFORMATION:

Background

On October 24, 2023, the U.S. Department of Commerce (Commerce) initiated the less-than-fair-value (LTFV) investigations of imports of aluminum extrusions from China, Colombia, Ecuador, India, Indonesia, Italy, Korea, Malaysia, Mexico, Taiwan, Thailand, Turkey, the UAE, and Vietnam.¹ Currently, the preliminary determinations are due no later than March 12, 2024.

¹ See Aluminum Extrusions from the People's Republic of China, Colombia, the Dominican Republic, Ecuador, India, Indonesia, Italy, the Republic of Korea, Malaysia, Mexico, Taiwan, Thailand, the Republic of Turkey, the United Arab Emirates, and the Socialist Republic of Vietnam: Initiation of Less-Than-Fair-Value Investigation, 88 FR 74421 (October 31, 2023).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 5, 2024, the U.S. Aluminum Extruders Coalition and the United Steel, Paper and Forestry, Rubber, Manufacturing, Energy, Allied Industrial and Service Workers International Union (collectively, the petitioners), submitted a timely request that Commerce postpone the preliminary determinations in the LTFV investigations for China, Colombia, Ecuador, India, Indonesia, Italy, Korea, Malaysia, Mexico, Taiwan, Thailand, Turkey, the UAE, and Vietnam.² The petitioners stated that they request postponement due to concerns that these investigations cover over a dozen countries and Commerce will need more time, as initial questionnaires are just starting to come in, to issue supplemental questionnaires to address deficiencies in the respondents' initial questionnaire responses.³

² See Petitioners' Letter, “Petitioner's Request for Postponement of Preliminary Determination,” dated February 5, 2024.

³ Id. at 2.

For the reasons stated above, and because there are no compelling reasons to deny the request, Commerce, in accordance with section 733(c)(1)(A) of the Act and 19 CFR 351.205(e), is postponing the deadline for the preliminary determinations by 50 days (i.e., 190 days after the date on which these investigations were initiated). As a result, Commerce will issue its preliminary determinations no later than May 1, 2024. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: February 9, 2024.
Ryan Majerus,
Deputy Assistant Secretary for Policy and Negotiations, Performing the Non-exclusive Functions and Duties of the Assistant Secretary for Enforcement and Compliance.

[FR Doc. 2024-03145 Filed 2-14-24; 8:45 am]

BILLING CODE 3510-DS-P